FEDERAL COMMUNICATIONS COMMISSION

47 CFR Part 73

[DA 03-1936; MM Docket No. 00-18, RM-9790]

Radio Broadcasting Services; Barnwell, SC, and Douglas, East Dublin, Pembroke, Pulaski, Statesboro, Swainsboro, Twin City, and Willacooche, GA

AGENCY: Federal Communications Commission.

ACTION: Final rule; denial of petition for reconsideration.

SUMMARY: This document denies a Petition for Reconsideration filed by Bullie Broadcasting Corporation directed to the Memorandum Opinion and Order in this proceeding which granted, in part, a Petition for Reconsideration filed by Multi-Service Corporation to the extent of withholding program test authority for a Channel 257C1 reallotment to Pembroke, Georgia, until a Channel 256C3 allotment at Barnwell, South Carolina, commences operation. See 67 FR 64818, October 22, 2002. With this action, the proceeding is terminated.

ADDRESSES: Federal Communications Commission, 445 12th Street SW., Washington, DC 20554.

FOR FURTHER INFORMATION CONTACT: Robert Hayne, Mass Media Bureau (202) 418-2177.

SUPPLEMENTARY INFORMATION: This is a synopsis of the Commission's Memorandum Opinion and Order in MM Docket No. 00-18, adopted July 24, 2003, and released July 25, 2003. The full text of this decision is available for inspection and copying during normal business hours in the FCC Reference Information Center at Portals II, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
John A. Karousos,
Assistant Chief, Audio Division, Media Bureau.

[FR Doc. 03-20206 Filed 8-7-03; 8:45 am]

BILLING CODE 6712-01-P